DEPARTMENT OF ENERGY

Federal Energy Regulatory Commission

[Docket No. AD06-8-000]

Discussions With Utility and Railroad Representatives on Market and Reliability Matters; Notice of Discussions

May 30, 2006.

The Federal Energy Regulatory Commission (FERC) will meet with utility and railroad representatives to discuss railroad coal-delivery matters and their impact on markets and electric reliability. The meeting is scheduled for June 15, 2006, in the Commission Meeting Room (Room 2C) at 888 First Street, NE., Washington, DC 20426 at or around 1 p.m. (EDT) and will conclude in mid-afternoon. (The starting time may be delayed by the Open Commission Meeting taking place that morning.)

All interested persons are invited to attend. There is no pre-registration and there is no fee to attend this meeting.

The Commission is inviting utility and railroad representatives to discuss market and reliability matters. Additional information will be issued in subsequent notices.

A transcript of the meeting will be available immediately for a fee from Ace Reporting Company (202-347-3700 or 1-800-336-6646). It will be available for free on the Commission's eLibrary system and on the events calendar approximately one week after the meeting.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Questions about the meeting should be directed to Saida Shaalan at Saida.Shaalan@ferc.gov or by phone at 202-502-8278.

Magalie R. Salas,
Secretary.

[FR Doc. E6-8670 Filed 6-2-06; 8:45 am]

BILLING CODE 6717-01-P